Title 3—

The President

Proclamation 7746 of December 30, 2003

To Implement the United States-Chile Free Trade Agreement

By the President of the United States of America

A Proclamation

1. On June 6, 2003, the United States entered into the United States-Chile Free Trade Agreement (USCFTA). The Congress approved the USCFTA in section 101(a) of the United States-Chile Free Trade Agreement Implementation Act (the “USCFTA Act”) (Public Law 108-77, 117 Stat. 909) (19 U.S.C. 3805 note).

2. Section 105 of the USCFTA Act authorizes the President to establish or designate within the Department of Commerce an office that shall be responsible for providing administrative assistance to panels established under Chapter 22 of the USCFTA.

3. Section 201 of the USCFTA authorizes the President to proclaim such modifications or continuation of any duty, such continuation of duty-free or excise treatment, or such additional duties, as the President determines to be necessary or appropriate to carry out or apply articles 3.3 (including the schedule of United States duty reductions with respect to originating goods set forth in Annex 3.3 to the USCFTA), 3.7, 3.9, and 3.20(8), (9), (10), and (11) of the USCFTA.

4. Section 202 of the USCFTA Act provides certain rules for determining whether a good is an originating good for the purpose of implementing tariff treatment under the USCFTA. I have decided that it is necessary to include these rules of origin, together with particular rules applicable to certain other goods, in the Harmonized Tariff Schedule of the United States (HTS).

5. Consistent with section 201(a)(2) of the USCFTA Act, Chile is to be removed from the enumeration of designated beneficiary developing countries eligible for the benefits of the Generalized System of Preferences (GSP). Further, consistent with section 604 of the Trade Act of 1974 (the “1974 Act”) (19 U.S.C. 2483), as amended, I have determined that other technical and conforming changes to the HTS are necessary to reflect that Chile is no longer eligible to receive benefits of the GSP.

6. Section 208 of the USCFTA Act authorizes the President to direct the Secretary of the Treasury to take certain actions related to verifications conducted consistent with Article 3.21 of the USCFTA.

7. Subtitle B of title III of the USCFTA Act authorizes the President to take certain actions in response to a request by an interested party for relief from imports that are a cause of serious damage, or actual threat thereof, to a domestic industry producing certain textile or apparel articles.

8. Executive Order 11651 of March 3, 1972, as amended, establishes the Committee for the Implementation of Textile Agreements (CITA) to supervise the implementation of textile trade agreements.

9. Section 604 of the 1974 Act, as amended, authorizes the President to embody in the HTS the substance of relevant provisions of that Act, or other acts affecting import treatment, and of actions taken thereunder, including the removal, modification, continuance, or imposition of any rate of duty or other import restriction.

NOW, THEREFORE, I, GEORGE W. BUSH, President of the United States of America, acting under the authority vested in me by the Constitution and the laws of the United States of America, including but not limited to sections 105, 201, 202, and 208 of the USCFTA Act, section 604 of the 1974 Act, and section 301 of title 3, United States Code, do proclaim that:

(1) In order to provide generally for the preferential tariff treatment being accorded under the USCFTA, to set forth rules for determining whether goods imported into the customs territory of the United States are eligible for preferential tariff treatment under the USCFTA, to provide certain other treatment to originating goods for the purposes of the USCFTA, to provide tariff-rate quotas with respect to certain originating goods, to reflect Chile's removal from the enumeration of designated beneficiary developing countries for purposes of the GSP, and to make technical and conforming changes in the general notes to the HTS, the HTS is modified as set forth in Annex I of Publication 3652 of the United States International Trade Commission, entitled Modifications of the Harmonized Tariff Schedule of the United States Implementing the United States- Chile Free Trade Agreement (Publication 3652), which is incorporated by reference into this proclamation.

(2) In order to implement the initial stage of duty elimination provided for in the USCFTA, and to provide for future staged reductions in duties for products of Chile for purposes of the USCFTA, the HTS is modified as provided in Annex II of Publication 3652, effective on the dates specified in the relevant sections of such publication and on any subsequent dates set forth for such duty reductions in that publication.

(3) The Secretary of Commerce is authorized to exercise the authority of the President under section 105(a) of the USCFTA Act to establish or designate an office within the Department of Commerce to carry out the functions set forth in that section.

(4) The CITA is authorized to exercise the authority of the President under section 208 of the USCFTA Act with respect to verifications conducted in a manner consistent with article 3.21 of the USCFTA.

(5) The CITA is authorized to exercise the authority of the President under subtitle B of title III of the USCFTA Act to review requests and to determine whether to commence consideration of such requests; to cause to be published in the Federal Register a notice of commencement of consideration of a request and notice seeking public comment; to determine whether a Chilean textile or apparel article is being imported into the United States in such increased quantities and under such conditions as to cause serious damage, or actual threat thereof, to a domestic industry producing an article that is like, or directly competitive with, the imported article; and to provide relief from imports of an article that is the subject of such a determination.

(6)(a) The amendments to the HTS made by paragraph (2) of this proclamation shall be effective with respect to goods entered, or withdrawn from warehouse for consumption, on or after the relevant dates indicated in Annex II to Publication 3652.

(b) Except as provided in paragraph (6)(a) of this proclamation, this proclamation shall be effective with respect to goods entered, or withdrawn from warehouse for consumption, on or after January 1, 2004.

(7) All provisions of previous proclamations and Executive Orders that are inconsistent with the actions taken in this proclamation are superseded to the extent of such inconsistency.

IN WITNESS WHEREOF, I have hereunto set my hand this thirtieth day of December, in the year of our Lord two thousand three, and of the Independence of the United States of America the two hundred and twenty-eighth.

B

[FR Doc. 03-32319

Filed 12-30-03; 11:33 am]

Billing code 3195-01-P